DEPARTMENT OF ENERGY

Federal Energy Regulatory Commission

[Project No. 10661-051]

Indiana Michigan Power Company; Notice of Intent to Prepare an Environmental Assessment

On September 30, 2021, Indiana Michigan Power Company filed an application for a subsequent license for the 1.2-megawatt Constantine Hydroelectric Project No. 10661 (Constantine Project). The Constantine Project is located on the St. Joseph River, in the Village of Constantine, in St. Joseph County, Michigan. The project does not occupy federal land.

In accordance with the Commission's regulations, on September 30, 2022, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the Constantine Project.

The EA will be issued and circulated for review by all interested parties. All comments filed on the EA will be analyzed by staff and considered in the Commission's final licensing decision.

The application will be processed according to the following schedule. Revisions to the schedule may be made as appropriate.

Milestone | Target date
Commission issues EA | July 2023¹
Comments on EA | August 2023.

¹ The Council on Environmental Quality's (CEQ) regulations under 40 CFR 1501.10(b)(1) require that EAs be completed within 1 year of the federal action agency's decision to prepare an EA. This notice establishes the Commission's intent to prepare an EA for the Constantine Project. Therefore, in accordance with CEQ's regulations, the EA must be issued within 1 year of the issuance date of this notice.

Any questions regarding this notice may be directed to Lee Emery at (202) 502-8379 or lee.emery@ferc.gov.

Dated: February 1, 2023.
Kimberly D. Bose,
Secretary.

[FR Doc. 2023-02559 Filed 2-6-23; 8:45 am]

BILLING CODE 6717-01-P